DEPARTMENT OF DEFENSE

Department of the Army; Corps of Engineers

Intent To Prepare a Draft Environmental Impact Statement Titled: Amite River and Tributaries, Bayou Manchac, LA

AGENCY: Department of the Army, U.S. Army Corps of Engineers, DOD.

ACTION: Notice of intent.

SUMMARY: The U.S. Army Corps of Engineers, New Orleans District, is initiating this study as a continuation of the Amite River and Tributaries Initial Evaluation Study, dated November 1984. The Amite River and Tributaries Study was initiated in response to a resolution, dated April 14, 1967, of the committee on Public Works of the United States Senate. This resolution directed the Board of Engineers, created under Section 3 of the River and Harbors Act, dated June 13, 1902, to determine whether the existing project should be modified for additional improvements for flood control and related purposes on the Amite River, Bayou Manchac, and Comite River and their tributaries.

FOR FURTHER INFORMATION CONTACT: Questions concerning the Environmental Impact Statement (EIS) should be addressed to Ms. Elizabeth McCasland at U.S. Army Corps of Engineers, PM-RS, P.O. Box 60267, New Orleans, LA 70160-0267, by E-mail at elizabeth.l.mccasland@mvn02.usace.army.mil, phone (504) 862-2021, or fax number (504) 862-2572.

SUPPLEMENTARY INFORMATION: An early screening phase concluded that there were not enough structural damages to support a single-purpose flood damage reduction study. However, it was determined that opportunities exist for ecosystem restoration that could possibly lower storm water stages as an ancillary benefit. This project will be evaluated under the National Ecosystem Restoration (NER) and National Economic Development (NED) planning and procedures guidelines.

1. Proposed Action. The proposed action would include one or more of the alternatives that when combined would improve the ecosystem and possibly reduce flood stages. Economic and environmental analysis would be used to determine the most practical plan, which would provide for the greatest overall public benefit.

2. Alternatives. Alternatives recommended for consideration presently include: A higher capacity structure at the confluence of Alligator Bayou and Bayou Manchac, a connection to New River, a freshwater input from Willow Glen Power Plant, a replacement of Frog Bayou Structure, Habitat Restoration, a pump and conveyance at Elbow Bayou with a flow restriction on Bayou Fountain, an operational water management plan and Non-Structural flood reduction measures.

3. Scoping. Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in the fall of 2003. The meeting will be held in the vicinity of Baton Rouge, LA. Additional meetings could be held, depending upon interest and if it is determined that further public coordination is warranted.

4. Significant Issues. The tentative list of resources and issues to be evaluated in the EIS includes wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available is the summer of 2006.

Dated: September 15, 2003.
Peter J. Rowan,
Colonel, U.S. Army, District Engineer.

[FR Doc. 03-24615 Filed 9-26-03; 8:45 am]

BILLING CODE 3710-84-P